SECURITIES AND EXCHANGE COMMISSION

[File No. 500-1]

In the Matter of Akesis Pharmaceuticals, Inc., Stellar Resources, Ltd., and Thwapr, Inc.; Order of Suspension of Trading

February 20, 2015.

It appears to the Securities and Exchange Commission that there is a lack of current and accurate information concerning the securities of Akesis Pharmaceuticals, Inc. because it has not filed any periodic reports since the period ended September 30, 2008.

It appears to the Securities and Exchange Commission that there is a lack of current and accurate information concerning the securities of Stellar Resources, Ltd. because it has not filed any periodic reports since the period ended January 31, 2012.

It appears to the Securities and Exchange Commission that there is a lack of current and accurate information concerning the securities of Thwapr, Inc. because it has not filed any periodic reports since the period ended June 30, 2012.

The Commission is of the opinion that the public interest and the protection of investors require a suspension of trading in the securities of the above-listed companies.

Therefore, it is ordered, pursuant to Section 12(k) of the Securities Exchange Act of 1934, that trading in the securities of the above-listed companies is suspended for the period from 9:30 a.m. EST on February 20, 2015, through 11:59 p.m. EST on March 5, 2015.

By the Commission.
Jill M. Peterson,
Assistant Secretary.

[FR Doc. 2015-03874 Filed 2-24-15; 8:45 am]

BILLING CODE 8011-01-P